DEPARTMENT OF COMMERCE

Foreign-Trade Zones Board

[Order No. 1174]

Designation of New Grantee for Foreign-Trade Zone 76, Bridgeport, Connecticut; Resolution and Order

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 12/12/2000) submitted by the City of Bridgeport, Connecticut, grantee of FTZ 76, Bridgeport, Connecticut, requesting reissuance of the grant of authority for said zone to the Bridgeport Authority, a municipal corporation, which has accepted such reissuance subject to approval of the FTZ Board. Upon review, the Board finds that the requirements of the FTZ Act and the Board's regulations are satisfied, and that the proposal is in the public interest, approves the request and recognizes the Bridgeport Port Authority as the new grantee of Foreign-Trade Zone 76.

The approval is subject to the FTZ Act and the FTZ Board's regulations, including § 400.28.

Signed at Washington, DC, this day 9th of July 2001.
Faryar Shirzad,
Assistant Secretary of Commerce for Import Administration, Alternate Chairman, Foreign-Trade Zones Board.
Dennis Puccinelli,
Executive Secretary.

[FR Doc. 01-17858 Filed 7-16-01; 8:45 am]

BILLING CODE 3510-DS-P